FEDERAL COMMUNICATIONS COMMISSION

[OMB 3060-1271; FR ID 283100]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before May 5, 2025. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-1271.

Title: Promoting Telehealth for Low-Income Consumers, COVID-19 Telehealth Program.

Form Numbers: FCC Forms 460, 461, 462, and 463.

Type of Review: Extension of a currently approved collection.

Respondents: Business or other for-profit; Not-for-profit institutions; Federal Government; and State, Local, or Tribal governments.

Number of Respondents and Responses: 7,210 respondents; 34,553 responses.

Estimated Time per Response: 0.30-25 hours.

Frequency of Response: One-time, annual, and on occasion reporting requirements; recordkeeping requirement.

Obligation to Respond: Required to obtain or retain benefits. Statutory authority for this collection of information is contained in sections 1-4, 201-205, 214, 254, 303(r), and 403 of the Communications Act of 1934, as amended, 47 U.S.C. 151-154, 201-205, 214, 254, 303(r), and 403, and DIVISION B of the Coronavirus Aid, Relief, and Economic Security Act, Public Law 116-136, 134 Stat. 281.

Total Annual Burden: 197,787 hours.

Total Annual Cost: No cost.

Needs and Uses: On March 31, 2020, the Commission adopted a Report and Order entitled Promoting Telehealth for Low-Income Consumers; COVID-19 Telehealth Program, WC Docket No. 18-213, WC Docket No. 20-89 (FCC 20-44), establishing two programs designed to assist health care providers in providing connected care services to consumers—the COVID-19 Telehealth Program and the Connected Care Pilot Program (collectively, Programs). June 2021, the Commission adopted a Second Report and Order, WC Docket No. 18-213 (FCC 21-74), that provided guidance on eligible services, competitive bidding, invoicing, and data reporting for Pilot Program participants. The information collected herein is necessary to meet the specific requirements for information that must be submitted as part of the annual and final reports to the Commission as outlined in the Second Connected Care Report and Order, and for the Commission to receive and evaluate data for the selected projects and ensure compliance with the Commission's rules and procedures applicable to the Connected Care Pilot Program. This submission extends the requirements for the Connected Care Pilot Program and the COVID-19 Telehealth Program.

Federal Communications Commission.
Marlene Dortch,
Secretary, Office of the Secretary.

[FR Doc. 2025-03565 Filed 3-4-25; 8:45 am]

BILLING CODE 6712-01-P